DEPARTMENT OF LABOR

Office of the Secretary

Submission for OMB Review: Comment Request

August 28, 2007.

The Department of Labor (DOL) hereby announces the submission of the following public information collection request (ICR) to the Office of Management and Budget (OMB) for review and approval in accordance with the Paperwork Reduction Act of 1995 (Pub. L. 104-13, 44 U.S.C. chapter 35). A copy of the ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Brenda Aguilar, OMB Desk Officer for the Employee Benefits Security Administration (EBSA), Office of Management and Budget, Room 10235, Washington, DC 20503, Telephone: 202-395-7316/Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: Regulation Relating to Loans to Plan Participants and Beneficiaries Who Are Parties in Interest With Respect to the Plan.

OMB Number: 1210-0076.

Frequency: On occasion.

Type of Response: Third-party disclosure.

Affected Public: Private Sector: Business or other for-profit and Not-for-profit institutions.

Estimated Number of Respondents: 1,700.

Estimated Total Burden Hours: 1.

Estimated Total Annual Costs (operating/maintaining systems or purchasing services): $556,000.

Description: The Department's regulation at 29 CFR 2550.408b-1 describes the terms, under section 408(b)(1) of the Employee Retirement Income Security Act (ERISA), whereby plans loans to participants and beneficiaries are exempt from ERISA's prohibited transaction rules. Inter alia, the regulation describes the specific provisions regarding such loans that must be included in the plan document for the statutory exemption to apply.

Darrin A. King,
Acting Departmental Clearance Officer.

[FR Doc. E7-17387 Filed 8-31-07; 8:45 am]

BILLING CODE 4510-29-P